DEPARTMENT OF TRANSPORTATION

Federal Aviation Administration

14 CFR Part 39

[Docket No. 2003-NM-271-AD]

RIN 2120-AA64

Airworthiness Directives; Empresa Brasileira de Aeronautica S.A. (EMBRAER) Model EMB-135 Airplanes and Model EMB-145, -145ER, -145MR, -145LR, -145XR, -145MP, and -145EP Airplanes

AGENCY: Federal Aviation Administration, Department of Transportation (DOT).

ACTION: Supplemental notice of proposed rulemaking; reopening of comment period.

SUMMARY: This document revises an earlier proposed airworthiness directive (AD), applicable to certain Empresa Brasileira de Aeronautica S.A. (EMBRAER) Model EMB-135 and EMB-145 series airplanes, that would have required inspecting the pilot's and co-pilot's seat tracks for proper locking of the seats, and adjusting or replacing the seat tracks, if necessary. This new action revises the proposed rule by revising the applicability statement, and requiring replacement of the seat locking pin on certain SICMA-brand seats. The actions specified by this new proposed AD are intended to prevent uncommanded movement of the pilot's or co-pilot's seat, which could interfere with the operation of the airplane and consequent temporary loss of airplane control. This action is intended to address the identified unsafe condition.

DATES: Comments must be received by December 5, 2005.

ADDRESSES: Submit comments in triplicate to the Federal Aviation Administration (FAA), Transport Airplane Directorate, ANM-114, Attention: Rules Docket No. 2003-NM-271-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-271-AD” in the subject line and need not be submitted in triplicate. Comments sent via the Internet as attached electronic files must be formatted in Microsoft Word 97 or 2000 or ASCII text.

The service information referenced in the proposed rule may be obtained from Empresa Brasileira de Aeronautica S.A. (EMBRAER), P.O. Box 343-CEP 12.225, Sao Jose dos Campos—SP, Brazil. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-271-AD.” The postcard will be date stamped and returned to the commenter.

Availability of NPRMs

Any person may obtain a copy of this NPRM by submitting a request to the FAA, Transport Airplane Directorate, ANM-114, Attention: Rules Docket No. 2003-NM-271-AD, 1601 Lind Avenue, SW., Renton, Washington 98055-4056.

Discussion

A proposal to amend part 39 of the Federal Aviation Regulations (14 CFR part 39) to add an airworthiness directive (AD), applicable to certain Empresa Brasileira de Aeronautica S.A. (EMBRAER) Model EMB-135 and EMB-145 series airplanes, was published as a notice of proposed rulemaking (NPRM) in the Federal Register on June 18, 2004 (69 FR 34091). That NPRM would have required inspecting the pilot's and co-pilot's seat tracks for proper locking of the seats, and adjusting or replacing the seat tracks, if necessary. That NPRM was prompted by a number of cases reported where flight crews had difficulty fitting the lock pin into the track of their seats during seat adjustments due to damage in the seat track locking hole. That condition, if not corrected, could result in uncommanded movement of the pilot's or co-pilot's seat, which could result in interference with the operation of the airplane and consequent temporary loss of airplane control.

Actions Since Issuance of Previous Proposal

Since the issuance of the original NPRM, the Departmento de Aviacao Civil (DAC) has issued a revision of Brazilian airworthiness directive 2002-09-01. That revision (2002-09-01R1, effective June 2, 2004) added a modification of certain SICMA seats installed on Model EMB-135 airplanes and Model EMB-145, -145ER, -145MR, -145LR, -145XR, -145MP, and -145EP airplanes. The modification replaces certain seat locking pins with new, improved seat locking pins.

We have also learned that the seat locking pin was designed with an incorrect shape. The use of the incorrectly shaped locking pin can cause damage to the seat track locking holes, and is the main factor that results in the uncommanded movement.

Comments on Original NPRM

We provided the public the opportunity to participate in the development of this proposed AD. We have considered the comments that have been submitted on the original NPRM. Due consideration has been given to the comments received in response to the NPRM.

Request To Allow Previous Revisions of Service Bulletins

One commenter requests that prior revisions levels of EMBRAER Service Bulletin 145-53-0027 be included in the proposed AD. The commenter has accomplished portions of inspections in accordance with service bulletin 145-53-0027, dated May 31, 2001; and Change 01, dated March 12, 2002.

Another commenter, the manufacturer, suggests that we change the proposed AD to include a paragraph allowing actions performed in accordance with previous issues of SICMA Service Bulletin 147-25-020, Issue 2, dated December 22, 2003.

We agree with the commenters' requests. We have revised paragraphs (e) and (f) of this supplemental NPRM (paragraph (e) of the original NPRM) to allow previous actions that were performed before the effective date of the proposed AD in accordance with earlier revisions of the service information.

Request To Shorten the Compliance Time

One commenter suggests that the 500-flight-hour inspection interval of the seat tracks is too long. The commenter feels that further degradation of the seat tracks within that inspection interval may result in a failure prior to the next inspection. Also, due to the severity of the loss of control in the event of an uncommanded movement of the pilot's seat, the commenter suggests that a “much shorter inspection interval be required.”

We do not agree with the commenter's request to shorten the compliance time. In developing an appropriate compliance time, we considered the safety implications, parts availability, and normal maintenance schedules for timely accomplishment of the modifications. Further, we arrived at the proposed compliance time with DAC concurrence. In addition, we added paragraph (b) to the supplemental NPRM to require replacement of existing seat locking pins with new, improved seat locking pins, which addresses the major cause of the degradation of the seat tracks.

Request To Revise Unsafe Condition

One commenter, the airplane manufacturer, states that the unsafe condition statement does not fully address the cause of the misaligned and excessively worn seat tracks. The condition of the seat tracks contribute to uncommanded seat movements, but the main reason for the condition of the seat tracks is because the locking pin was designed with the wrong shape. The commenter also asserts that the issuance of the SICMA Service Bulletin 147-25-020, Issue 2, dated December 22, 2003, which addresses the locking pin, is the reason why the DAC issued the revised Brazilian airworthiness directive 2002-09-01R1, effective June 2, 2004. We infer that the commenter is requesting that the unsafe condition statement be revised to include the origins of the damage to the seat tracks.

We agree with the commenter that further information on the origins of the unsafe condition should be included in the supplemental NPRM. We have added a statement addressing the origin of the seat track damage under “Actions Since Issuance of Previous Proposal” above to supplement the Discussion section of the original NPRM.

Request To Revise Applicability Statement of the Proposed AD

The commenter requests that the applicability statement of the original NPRM be revised to apply to certain SICMA seats having part number (P/Ns) 1471610-00 through 1471610-03 inclusive, and P/N 1471611-00 through 1471611-03 inclusive, “installed on Model EMB-135 and -145 series airplanes.”

We agree with the commenter that the applicability statement needs to be revised. However, while the faulty locking pin was installed only on those seats with P/Ns stated above, the seats are rotatable and could be installed on any Model EMB-135 airplanes and EMB-145, -145ER, -145MR, -145LR, -145XR, -145MP, and -145EP airplanes. We find that the suggested applicability could inadvertently exclude airplanes that may have seat track damage from a previous installation of an affected SICMA seat part number, but do not have an affected SICMA seat installed as of the effective date of the proposed AD.

We have concluded that the applicability statement must affect all Model EMB-135 airplanes and Model EMB-145, -145ER, -145MR, -145LR, -145XR, -145MP, and -145EP airplanes. This applicability matches the applicability of the revised Brazilian airworthiness directive. Affecting all Model EMB-135 airplanes and EMB-145, -145ER, -145MR, -145LR, -145XR, -145MP, and -145EP airplanes also allows us to prohibit installation of a SICMA seat with a faulty locking pin on any Model EMB-135 airplanes or Model EMB-145, -145ER, -145MR, -145LR, -145XR, -145MP, and -145EP airplanes (unless modified as required) in paragraph (c) of this supplemental NPRM, and require certain airplanes to be inspected for any seat track damage.

Request To Require Seat Track Inspections

The commenter also requests that we revise the original NPRM to require, for airplanes with serial number (S/N) 145002 through 145560, an inspection of the seat tracks in accordance with the EMBRAER Service Bulletin 145-53-0027, Revision 03, dated February 5, 2004, as a concurrent service bulletin action to replace the seat locking pin on certain seats with affected P/Ns.

We agree with specifying the airplane serial numbers, as called out by the commenter, in paragraph (a)(3) of the supplemental NPRM. The revision would simplify the paragraph without excluding airplanes that may have a damaged seat track. This difference has been coordinated with the DAC.

Request To Require Seat Locking Pin Replacement

In addition, the commenter requests that we revise the original NPRM to require replacement of seat locking pins on all SICMA seats having part number (P/N) 1471610-00 through 1471610-03 inclusive, and P/N 1471611-00 through 1471611-03 inclusive, installed on Model EMB-135 airplanes and EMB-145, -145ER, -145MR, -145LR, -145XR, -145MP, and -145EP airplanes.

We agree with the commenter that the faulty seat locking pins need to be replaced with new pins. We have added paragraph (b) to the supplemental NPRM.

Conclusion

Since these changes expand the scope of the originally proposed rule, the FAA has determined that it is necessary to reopen the comment period to provide additional opportunity for public comment.

Explanation of Change to Applicability

We have revised the applicability of the original NPRM to identify model designations as published in the most recent type certificate data sheet for the affected models.

Cost Impact

The FAA estimates that 550 airplanes of U.S. registry would be affected by this supplemental NPRM. The following table shows the estimated cost impact for airplanes affected by this supplemental NPRM. The average labor rate is $65 per work hour.

Action | Number of airplanes affected | Work hours | Parts cost | Total cost
Inspection to determine seat part and serial numbers | 550 | 1 | (none) | $35,750, or $65 per airplane.
Inspection (Part I of EMBRAER SB 145-53-0027, Revision 03, February 5, 2004) | 459 | 4 | (none) | $119,340, or $260 per airplane.
Inspection and Alignment (Part III of EMRAER SB145-53-0027, Revision 03, February 5, 2004) | 348 | 4 | (none) | $90,480, or $260 per airplane.
Locking Pin and Spring Replacement (SICMA Aero Seat SB 147-25-020, Issue 2, December 22, 2003) | 459 | 1 | $684 | $343,791, or $749 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Empresa Brasileira de Aeronautica S.A. (EMBRAER): Docket 2003-NM-271-AD.

Applicability: All Model EMB-135BJ, -135ER, -135KE, -135KL, and -135LR airplanes; and Model EMB-145, -145ER, -145MR, -145LR, -145XR, -145MP, and -145EP airplanes, certificated in any category.

Compliance: Required as indicated, unless accomplished previously.

To prevent uncommanded movement of the pilot's or copilot's seat, which could interfere with the operation of the airplane and consequent temporary loss of airplane control, accomplish the following:

Initial Inspection and Corrective Action

(a) Within 500 flight hours after the effective date of this AD, do the actions specified in paragraphs (a)(1), (a)(2), and (a)(3), as applicable.

(1) For all airplanes: Do an inspection of the pilot's and co-pilot's seats for part numbers (P/N) and serial numbers (S/N). A review of airplane maintenance records is acceptable in lieu of this inspection if the P/N and S/N of the seats can be conclusively determined from that review.

(i) If any seat is found to have P/N 1471610-00 or 1471611-00, and the S/N is 000 through 324 inclusive, before further flight, do general visual and detailed inspection of the seat tracks for proper locking of the seats, and do all applicable related investigative actions and corrective actions, in accordance with Parts I and II, as applicable, of the Accomplishment Instructions of the EMBRAER Service Bulletin 145-53-0027, Revision 03, dated February 5, 2004.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 3: EMBRAER Service Bulletin 145-53-0027, Revision 03, dated February 5, 2004, refers to EMBRAER Model EMB-145 Structural Repair Manual, Chapter 53-12-11, dated July 18, 2001, as an additional source of information on the limits of acceptable wear.

(ii) If seats are found not to have P/N 1471610-00 or 1471611-00, and a S/N that is up to and including 324 inclusive, no further action is required by this paragraph.

(2) For airplanes having S/N 145004 through 145290 inclusive, do the actions specified in paragraph (a)(2)(i) or (a)(2)(ii) of this AD, as applicable.

(i) For airplanes with a seat track having P/N 145-33669-001: Do general visual and detailed inspections of the seat track(s) for proper locking of the seat and excessive wear, and do any applicable corrective action, in accordance with Part I and II, as applicable, of the Accomplishment Instructions of EMBRAER Service Bulletin 145-53-0027, Revision 03, dated February 5, 2004. Replace seat tracks that are found to have excessive wear within 50 flight hours after the inspection with a new seat track having P/N 145-33669-003 or 145-33669-601. Do any other applicable corrective action before further flight. Repeat the general visual and detailed inspections thereafter at intervals not to exceed 500 flight hours until the seat track is replaced by a new seat track having P/N 145-33669-003 or 145-33669-601.

(ii) For airplanes without a seat track having P/N 145-33669-001, no further action is required by this paragraph.

(3) For airplanes having S/N 145002 through 145560 inclusive: If any seat is found during the inspection required by paragraph (a)(1) of this AD that does not have a P/N and S/N specified in paragraph (a)(1)(i) of this AD, within 500 flight hours after the effective date of this AD, do a general visual and detailed inspection of the pilot's and co-pilot's seats for proper locking of the seats, and do all applicable related investigative and corrective action in accordance with Part III of the Accomplishment Instructions of EMBRAER Service Bulletin 145-53-0027, Revision 03, dated February 5, 2004, except as provided by paragraph (d) of this AD. Do any corrective actions before further flight.

Replacement

(b) For airplanes with a SICMA seat(s) bearing a part number (P/N) listed in Table 1 of this AD, within 1,000 flight hours after the effective date of this AD, replace the seat locking pin with a new, improved seat locking pin in accordance with the Accomplishment Instructions of SICMA Aero Seat Service Bulletin 147-25-020, Issue 2, dated December 22, 2003. For airplanes without any SICMA seat bearing a P/N listed in Table 1 of this AD, no further action is required by this paragraph.

Table 1.—SICMA Seat P/Ns
Part Number
1471610-00
1471610-01
1471610-02
1471610-03
1471611-00
1471611-01
1471611-02
1471611-03

Parts Installation

(c) As of the effective date of this AD, no SICMA seat bearing a P/N listed in Table 1 of this AD may be installed on any airplane unless the seat locking pin has been replaced in accordance with paragraph (b) of this AD.

Certain Repairs

(d) Where the EMBRAER service bulletin recommends contacting EMBRAER for appropriate action: Before further flight, repair per a method approved by either the Manager, International Branch, ANM-116, FAA, Transport Airplane Directorate; or the Departamento de Aviacao Civil (or its delegated agent).

Actions Accomplished Per Previous Issue of Service Bulletin

(e) Accomplishment of the actions specified in EMBRAER Service Bulletin 145-53-0027, dated May 31, 2001; Revision 01, dated March 12, 2002; or Revision 02, dated January 24, 2003; before the effective date of this AD, is considered acceptable for compliance with the corresponding requirements of paragraph (a) of this AD.

(f) Accomplishment of the actions specified in SICMA Aero Seat Service Bulletin 147-25-020, dated November 11, 2003; or Issue 1, dated December 3, 2003; before the effective date of this AD, is considered acceptable for compliance with the requirements of paragraph (b) of this AD.

Alternative Methods of Compliance

(g)(1) In accordance with 14 CFR 39.19, the Manager, International Branch, ANM-116, FAA, is authorized to approve alternative methods of compliance (AMOCs) for this AD.

(2) Before using any AMOC approved in accordance with 14 CFR 39.19 on any airplane to which the AMOC applies, notify the appropriate principal inspector in the FAA Flight Standards Certificate Holding District Office.

Note 4: The subject of this AD is addressed in Brazilian airworthiness directive 2002-09-01R1, dated June 2, 2004.

Issued in Renton, Washington, on October 25, 2005.
Kalene C. Yanamura,
Acting Manager, Transport Airplane Directorate, Aircraft Certification Service.

[FR Doc. 05-22311 Filed 11-8-05; 8:45 am]

BILLING CODE 4910-13-U